DEPARTMENT OF LABOR

Employment and Training Administration

[TA-W-55,622]

KAMCO Plastics, Inc., Galesburg, IL; Notice of Termination of Investigation

Pursuant to Section 221 of the Trade Act of 1974, as amended, an investigation was initiated on September 16, 2004 in response to a worker petition filed on behalf of workers at Kamco Plastics, Inc., Galesburg, Illinois.

The petition regarding the investigation has been deemed invalid. In order to establish a valid worker group, there must be at least three full-time workers employed at some point during the period under investigation. Workers of the group subject to this investigation did not meet the threshold of employment. Consequently the investigation has been terminated.

Signed at Washington, DC, this 15th day of October 2004.
Richard Church,
Certifying Officer, Division of Trade Adjustment Assistance.

[FR Doc. E4-2911 Filed 10-28-04; 8:45 am]

BILLING CODE 4510-30-P